DEPARTMENT OF ENERGY

Federal Energy Regulatory Commission

[Project No. 2079-072]

Placer County Water Agency; Notice of Application for Approval of Contract for the Sale of Power for a Period Extending Beyond the Term of the License

Take notice that on July 17, 2012, Placer County Water Agency filed with the Commission an application for approval of: (a) The continuation of its existing power purchase contract with Pacific Gas and Electric Company (PG&E) for two months beyond the expiration of the current license term of the Middle Fork American River Project No. 2079 (Middle Fork Project); and (b) a new power purchase agreement for the sale of output of the Middle Fork Project from the licensee to PG&E beginning on May 1, 2013, which is beyond the term of Middle Fork Project's current license. The Project consists of two major storage reservoirs, five smaller reservoirs and diversion pools, and five powerhouses, and is located in the Sierra Nevada range in Placer and El Dorado Counties, California.

Section 22 of the Federal Power Act, 16 U.S.C. 815, provides that contracts for the sale and delivery of power for periods extending beyond the termination date of a license may be entered into upon the joint approval of the Commission and the appropriate state public service commission or other similar authority in the state in which the sale or delivery of power is made. The licensee asserts that approval of the submitted contract is in the public interest.

Comments on the request for approval of the continuation of the original power purchase contract and for the new power purchase agreement, or motions to intervene may be filed with the Commission no later than December 10, 2012. Section 385.2010 of the Commission's regulations requires all intervenors filing documents with the Commission to serve a copy of that document on each person on the official service list for the project. Further, if an intervenor files comments or documents with the Commission relating to the merits of an issue that may affect the responsibilities of a particular resource agency, they must also serve a copy of the document on that resource agency.

All documents (an original and eight copies) must be filed with: Kimberly D. Bose, Secretary, Federal Energy Regulatory Commission, 888 First Street NE., Washington, DC 20426. Please put the name Middle Fork Project No. 2079-072 on the first page of all documents.

Comments may be filed electronically via the Internet in lieu of paper. The Commission strongly encourages electronic filings. See 18 CFR 385.2001(a)(1)(iii) and the instructions on the Commission's Web site, www.ferc.gov, under the “e-Filing” link.

A copy of the application is available for review in the Commission's Public Reference Room or may be viewed on the Commission's Web site, www.ferc.gov, using the “eLibrary” link. Enter the docket number excluding the last three digits in the docket number field to access the document. For assistance, contact FERC Online Support at FERCOnlineSupport@ferc.gov or toll-free at 1-866-208-3676, or for TTY, (202) 502-8659.

You may also register online at www.ferc.gov/docs-filing/esubscription.asp to be notified via email of new filings and issuances related to these projects or other pending projects. For assistance, contact FERC Online Support.

Dated: October 25, 2012.
Kimberly D. Bose,
Secretary.

[FR Doc. 2012-27020 Filed 11-5-12; 8:45 am]

BILLING CODE 6717-01-P